DEPARTMENT OF THE INTERIOR

Bureau of Land Management

[LLNV933000.19200000-ET0000.LRORF2012100; TAS XXX; N-98605; MO# 4500146306]

Notice of Application for Withdrawal; and Notification of Public Meeting; Nye County, Nevada

AGENCY: Bureau of Land Management, Interior.

ACTION: Notice.

SUMMARY: The Bureau of Land Management (BLM) is providing notice of an application from the National Aeronautics and Space Administration (NASA) requesting that the Secretary of the Interior withdraw and reserve lands necessary for NASA's satellite calibration activities within the Railroad Valley (RRV), Nye County, Nevada, area for a period of 20 years, subject to valid existing rights. Publication of this Notice segregates approximately 22,995.05 acres of public lands from all forms of appropriation or other disposition under the public land laws, including the mining, mineral leasing, and geothermal leasing laws, for up to two years, subject to valid existing rights. This notice also invites the public to comment on the withdrawal application by several methods, including a virtual public meeting.

DATES: Comments must be received by July 28, 2021. On Monday, July 19, 2021, from 11:00 a.m. to 12:00 p.m. Eastern time, NASA will hold a virtual public meeting in connection with the proposed withdrawal. NASA will publish further instructions about how to access the online public meeting in the Reno Gazette-Journal (Reno), Las Vegas Review-Journal (Las Vegas), The Ely Times (Ely), and Tonopah Times-Bonanza & Goldfield News (Tonopah) newspapers a minimum of 30 days prior to the meeting.

ADDRESSES: All comments should be sent to the BLM Nevada State Office, 1340 Financial Boulevard., Reno, NV 89502; faxed to 775-861-6606; or sent by email to blm_nv_so_nasafrncomments@blm.gov. The BLM will not consider comments received via telephone calls.

FOR FURTHER INFORMATION CONTACT: Edison Garcia, Land Law Examiner, BLM, by telephone at 775-861-6530; by email at edisongarcia@blm.gov. Persons who use a telecommunications device for the deaf (TDD) may call the Federal Relay Service (FRS) at 1-775-861-6511 to contact the above individual during normal business hours. The FRS is available 24 hours a day, seven days a week, to leave a message or question with the above individual. You will receive a reply during normal business hours.

SUPPLEMENTARY INFORMATION: NASA has filed an application requesting that the Secretary of the Interior withdraw the public lands described below from all forms of appropriation or other disposition under the public land laws, including the mining, mineral leasing, and the geothermal leasing laws, subject to valid existing rights, and reserve them for NASA's satellite calibration activities within the Railroad Valley, Nye County, Nevada area for a period of 20 years.

Publication of this Notice segregates approximately 22,995.05 acres of public lands, for up to two years from all forms of appropriation or other disposition under the public land laws, including the mining, mineral leasing, and geothermal leasing laws, subject to valid existing rights. This notice also invites the public to comment on the withdrawal application by several methods, including a virtual public meeting to be held Monday, July 19, 2021, from 11:00 a.m. to 12:00 p.m. Eastern time.

The two-year segregation of 22,995.05 acres of public land will provide the BLM and NASA time to prepare an Environmental Assessment (EA) which will analyze the environmental effects of the requested withdrawal and any alternatives in order for the BLM to make a recommendation to the Secretary of the Interior. Further, NASA intends to select from among the segregated lands a subset of those lands most suitable for its purposes; therefore, it is likely that if the Secretary does elect to withdraw any of the lands requested, far fewer of the segregated lands would eventually be withdrawn.

As required by section 204(b)(1) of the Federal Land Policy and Management Act of 1976 (FLPMA), 43 U.S.C. 1714(b)(1), and the BLM regulations at 43 CFR part 2300, the BLM is publishing Notice of NASA's application to withdraw the following described lands:

Mount Diablo Meridian, Nevada

T. 7 N., R. 56 E.,

Secs. 2 thru 17;

Secs. 20 thru 27.

T. 8 N., R. 56 E.,

Secs. 19 thru 21;

Secs. 27 thru 35.

The areas described aggregate 22,995.05 acres in Nye County.

According to the application, RRV is the only location in the U.S. with the appropriate characteristics to enable satellite calibration and has been used for these purposes since 1993. Alternative sites to RRV are less desirable, due to the effects of human activity, site inhomogeneity, topography, and excessive brightness—all of which negatively impact the accuracy of sensor readings for satellite calibration. The lands subject to the withdrawal application are the lands for which protection is sought from the impacts of exploration and development under the United States mineral and geothermal leasing laws.

The use of a right-of-way, interagency agreement, or cooperative agreement would not adequately constrain non-discretionary uses which could result in permanent loss of significant values and Federal investment in the long-term satellite calibration program established for NASA.

No water will be needed to fulfill the purpose of the requested withdrawal.

Before including your address, phone number, email address, or other personal identifying information in your comment, you should be aware that your entire comment—including your personal identifying information—may be publicly available at any time. While you can ask us in your comment to withhold your personal identifying information from public review, we cannot guarantee that we will be able to do so.

Notice is hereby given that a virtual (online) public meeting in connection with the application for withdrawal will be held on Monday, July 19, 2021, from 11:00 a.m. to 12:00 p.m. Eastern time. NASA will publish a notice of the online venue in local newspapers a minimum of 30 days before the schedule date of the meeting.

Authority: 43 U.S.C. 1714(b)(1) and 43 CFR 2310.3-1

Jon K. Raby,
State Director, Nevada.

[FR Doc. 2021-08881 Filed 4-28-21; 8:45 am]

BILLING CODE 4310-HC-P